SECURITIES AND EXCHANGE COMMISSION

Proposed Collection; Comment Request

Upon Written Request, Copies Available From: Securities and Exchange Commission, Office of Filings and Information Services, Washington, DC 20549.

Extension:

Rule 6h-1—SEC File No. 270-497—OMB Control No. 3235-0555.

Notice is hereby given that pursuant to the Paperwork Reduction Act of 1995,¹ the Securities and Exchange Commission (“Commission”) is soliciting comments on the collection of information summarized below. The Commission plans to submit this existing collection of information to the Office of Management and Budget for extension and approval.

¹ 44 U.S.C. 3501 et seq.

The Securities Exchange Act of 1934 (“Act”) requires national securities exchanges and national securities associations that trade security futures products to establish listing standards that, among other things, require: (1) Trading in such products not be readily susceptible to price manipulation; and (2) the market trading a security futures product has in place procedures to coordinate trading halts with the listing market for the security or securities underlying the security futures product. Rule 6h-1 under the Act ² implements these statutory requirements and requires national securities exchanges and national securities associations that trade security futures products to: (1) Require cash-settled security futures products to settle based on an opening price rather than a closing price; and (2) require the exchange or association to halt trading in a security futures product for as long as trading in the underlying security, or trading in 30% of the underlying securities, is halted on the listing market.

² 17 CFR 240.6h-1.

It is estimated that approximately seventeen respondents will incur an average burden of ten hours per year to comply with this rule, for a total burden of 170 hours. At an average cost per hour of approximately $197, the resultant total cost of compliance for the respondents is $33,490 per year (seventeen entities × ten hours/entity × $197/hour = $33,490).

Written comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Direct your written comments to R. Corey Booth, Director/Chief Information Officer, Office of Information Technology, Securities and Exchange Commission, 450 Fifth Street, NW., Washington, DC 20549.

Dated: July 15, 2004.
Margaret H. McFarland,
Deputy Secretary.

[FR Doc. 04-16744 Filed 7-21-04; 8:45 am]

BILLING CODE 8010-01-P